DEPARTMENT OF DEFENSE

Department of the Army, Corps of Engineers

Notice of Intent To Prepare a Draft Environmental Impact Statement (EIS), Initiate the Public Scoping Period and Host Public Scoping Meetings for the Great Lakes and Mississippi River Interbasin Study (“GLMRIS”)—Evaluation of Aquatic Nuisance Species Controls Near Brandon Road Lock and Dam: Extension of the Public Scoping Period and Announcement of an Additional Public Scoping Meeting Location

AGENCY: U.S. Army Corps of Engineers, DoD.

ACTION: Notice.

SUMMARY: Reference the Notice of Intent published in the Federal Register on Thursday, November 20, 2014, volume 79, number 224, pages 69099-100 (79 FR 69099). This notice extends the public comment period and identifies an additional location for a GLMRIS public scoping meeting. For convenience, the SUPPLEMENTARY INFORMATION section of the November 20, 2014 notice has been reprinted with new text announcing the extension of the public comment period and the additional location where USACE will host a scoping meeting.

DATES: The NEPA public scoping period ends on January 30, 2015. Please refer to the “Scoping and Public Involvement” section below for instructions on ways to submit public comments.

FOR FURTHER INFORMATION CONTACT: For further information and/or questions about GLMRIS, please contact USACE, Chicago District, Project Manager, Mr. David Wethington, by mail: USACE, Chicago District, 231 S. LaSalle, Suite 1500, Chicago, Illinois 60604, or by email: david.m.wethington@usace.army.mil.

For media inquiries, please contact USACE, Chicago District, Public Affairs Officer, Ms. Lynne Whelan, by mail: USACE, Chicago District, 231 S. LaSalle, Suite 1500, Chicago, Illinois 60604, by phone: 312.846.5330 or by email: lynne.e.whelan@usace.army.mil.

SUPPLEMENTARY INFORMATION:

1. Background. In January 2014, USACE released the GLMRIS Report, which evaluated the potential range of alternatives to prevent ANS transfer between the GL and MR basins via the CAWS. In GLMRIS, USACE has interpreted the term “prevent” to mean the reduction of risk to the maximum extent possible, because it may not be technologically feasible to achieve an absolute solution.

The GLMRIS Report identified eight alternatives, six of which were structural alternatives. Three structural alternatives established an ANS control point near Brandon Road Lock and Dam in Joliet, Illinois. The GLMRIS Report identified the Brandon Road control point as a single location that can address upstream transfer of MR ANS through the CAWS.

Based on evaluations presented in the GLMRIS Report and in response to stakeholder input, USACE has been directed by the Assistant Secretary of the Army (Civil Works) to proceed with a formal evaluation of potential ANS controls to be applied near the Brandon Road Lock and Dam, located near Joliet, Illinois. The GLMRIS—Brandon Road effort will evaluate the range of options or technologies available to prevent MR ANS transfer through the CAWS into the GL Basin.

This effort will assess the potential of various ANS controls to address the one-way, upstream transfer of ANS through the approach channel and/or lock chamber at Brandon Road Lock and Dam, and seek to minimize any adverse impacts to waterway users or resources.

The Brandon Road Lock and Dam Historic District includes the Brandon Road Lock and Dam and was retroactively listed on the National Register of Historic Places on March 11, 2004.

GLMRIS will be conducted in accordance with NEPA and with the Economic and Environmental Principles and Guidelines for Water and Related Land Resource Implementation Studies, Water Resources Council, March 10, 1983.

2. Scoping and Public Involvement. USACE will accept comments related to GLMRIS—Brandon Road until January 30, 2015.

All forms of comments received during the scoping period will be weighted equally. Using input obtained during the scoping period, USACE will refine the scope of GLMRIS to focus on significant issues, as well as eliminate issues that are not significant from further detailed study.

Comments may be submitted in the following ways:

• GLMRIS project Web site: Use the web comment function found at http://glmris.anl.gov/.

• NEPA Scoping Meeting: USACE is hosting scoping meetings and asks those who wish to make oral comments in person to register on the GLMRIS project Web site at http://glmris.anl.gov/. Each meeting's on-line registration to speak will be closed at 10 a.m. central time the day of the meeting. Those who do not register to speak via the GLMRIS Web site may register at the meeting. Those registering through the Web site may be given a preference over those that register to make an oral comment at the meeting. Each individual wishing to make oral comments shall be given three (3) minutes, and a stenographer will document oral comments;

• Mail: Mail written comments to GLMRIS—Brandon Road Scoping, 231 S. LaSalle, Suite 1500, Chicago, Illinois 60604. Comments must be postmarked by January 30, 2015; and

• Hand Delivery: Comments may be hand-delivered to the Chicago District, USACE office located at 231 S. LaSalle, Suite 1500, Chicago, Illinois 60604 between 8:00 a.m. and 4:30 p.m. Comments must be received by January 30, 2015.

The public meetings will begin with a brief presentation regarding the study followed by an oral comment period. During the meeting, USACE will also collect written comments.

The additional public meeting is scheduled for 3:00 p.m. to 6:00 p.m. on Thursday, January 8, 2015, at the U.S. Army Corps of Engineers, New Orleans District Office, Assembly Room A located at 7400 Leake Avenue, New Orleans, Louisiana. Please see the GLMRIS project Web site at http://glmris.anl.gov/ for directions, more information regarding the meeting and if you wish to make an oral comment.

Comments received during the scoping period will be posted on the GLMRIS project Web site and will become part of the EIS.

If you require assistance under the Americans with Disabilities Act, please contact Ms. Lynne Whelan via email at lynne.e.whelan@usace.army.mil or phone at (312) 846-5330 at least seven (7) working days prior to the meeting to request arrangements.

3. Significant Issues. Issues associated with the proposed study are likely to include, but will not be limited to impacts of ANS on current waterway uses and resources; impacts of potential ANS controls on current waterway uses and resources; and statutory and legal responsibilities relative to the lakes and waterways. Examples of waterway uses and resources that may be impacted by ANS include significant natural resources such as ecosystems and threatened and endangered species, commercial and recreational fisheries, and current recreational uses of the lakes and waterways. Examples of current waterway uses that may be impacted by potential ANS controls are commercial and recreational navigation, flood risk management and water supply and quality.

4. Availability of the Draft Environmental Impact Statement. Availability of the Draft EIS is contingent upon sufficient allocation of funding for the study. Draft EIS availability will be announced to the public in the Federal Register in compliance with 40 CFR 1506.9 and 1506.10.

5. Authority. This action is being undertaken pursuant to the Water Resources and Development Act of 2007, Section 3061, Pub. L. 110-114, 121 STAT. 1121, and the National Environmental Policy Act of 1969 (NEPA), 42 U.S.C. 4321, et seq., as amended.

Dated: December 29, 2014.
Susanne J. Davis,
Chief Planning Branch, Chicago District, Corps of Engineer.

[FR Doc. 2014-30859 Filed 1-2-15; 8:45 am]

BILLING CODE 3720-58-P